DEPARTMENT OF TRANSPORTATION

Federal Highway Administration

[4910-RY]

Notice of Final Federal Agency Actions on Grand Parkway (State Highway 99), Segments H and I-1, in Texas

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to a proposed highway project, Grand Parkway (State Highway 99) Segments H and I-1, from US 59 (N)/I-69 to I-10 (E) in Montgomery, Harris, Liberty, and Chambers Counties, Texas. Those actions grant licenses, permits, and approvals for the project.

DATES: By this notice, the FHWA is advising the public of final agency actions subject to 23 U.S.C. 139(l)(1). A claim seeking judicial review of the Federal agency actions on the highway project will be barred unless the claim is filed on or before December 22, 2014. If the Federal law that authorizes judicial review of a claim provides a time period of less than 150 days for filing such claim, then that shorter time period still applies.

FOR FURTHER INFORMATION CONTACT: Mr. Gregory Punske, P.E., District Engineer, District B (South), Federal Highway Administration, 300 East 8th Street, Room 826, Austin, Texas 78701; telephone: (512) 536-5960; email: gregory.punske@dot.gov. The FHWA Texas Division Office's normal business hours are 7:30 a.m. to 4:30 p.m. (central time) Monday through Friday. You may also contact Carlos Swonke, P.G., Environmental Affairs Division, Texas Department of Transportation, 118 E. Riverside Drive, Austin, Texas 78704; telephone: (512) 416-2734; email: carlos.swonke@txdot.gov. The Texas Department of Transportation (TxDOT) normal business hours are 8 a.m. to 5 p.m. (central time) Monday through Friday.

SUPPLEMENTARY INFORMATION: Notice is hereby given that the FHWA and other Federal agencies have taken final agency actions by issuing licenses, permits, and approvals for the following highway project in the State of Texas: Grand Parkway (State Highway 99) Segments H and I-1 from US 59 (N)/I-69 to I-10 (E) in Montgomery, Harris, Liberty, and Chambers Counties. The project will be a 37.4 mile- long, four-lane controlled access toll road. The project will begin at US 59 (N)/I-69 in Montgomery County and then proceeds east/southeast through Harris and Liberty Counties, ending at I-10 (E) in Chambers County. There are proposed grade separated interchanges with access ramps at nine locations. Overpasses with no access to the cross-streets are proposed at eight locations. Preliminary design proposes continuous frontage roads where Segment H parallels FM 1485. This section will be reconstructed in a frontage road configuration for overall improved traffic operations. The purpose of the project is to efficiently link the suburban communities and major roadways, enhance mobility and safety, and respond to economic growth.

The actions by the Federal agencies, and the laws under which such actions were taken, are described in the Final Environmental Impact Statement (FEIS) for the project, approved on April 8, 2014, in the FHWA Record of Decision (ROD) issued on June 24, 2014, and in other documents in the FHWA administrative record. The FEIS, ROD, and other documents in the FHWA administrative record file are available by contacting FHWA or TxDOT at the addresses provided above. The FHWA FEIS and ROD can be viewed and downloaded from the Grand Parkway Association Web site at http://www.grandpky.com/segments/h/.

This notice applies to all Federal agency decisions as of the issuance date of this notice and all laws under which such actions were taken, including but not limited to:

1. General: National Environmental Policy Act (NEPA) [42 U.S.C. 4321-4335].

2. Air: Clean Air Act [42 U.S.C. 7401-7671(q)].

3. Land: Section 4(f) of the Department of Transportation Act of 1966 [49 U.S.C. 303]; Uniform Relocation and Real Property Acquisition Policies Act of 1970 [42 U.S.C. 4601-4655]; Coastal Zone Management Act of 1972.

4. Wildlife: Endangered Species Act [16 U.S.C. 1531-1544]; Migratory Bird Treaty Act [16 U.S.C. 703-712]; Bald and Golden Eagle Protection Act of 1940; Magnuson-Stevens Act of 1996.

5. Historic and Cultural Resources: Section 106 of the National Historic Preservation Act of 1966, as amended [16 U.S.C. 470(f) et seq.].

6. Social and Economic: Civil Rights Act of 1964 [42 U.S.C. 2000(d)-2000(d)(1)]; Section 504 of the Americans with Disability Act; Farmland Protection Policy Act (FPPA) [7 U.S.C. 4201-4209].

7. Wetlands and Water Resources: Clean Water Act[ 33 U.S.C. 1251-1342 (Sections 401, 402, and 404)]; Rivers and Harbors Act of 1899 [33 U.S.C. 401-406]; Wild and Scenic Rivers Act [16 U.S.C. 1271-1287]; Safe Drinking Water Act of 1996 [42 U.S.C. 300(f)-300(j)(6)].

8. Executive Orders: E.O. 11990 Protection of Wetlands; E.O. 11988 Floodplain Management; E.O. 13112 on Invasive Species; E.O. 12898, Federal Actions to Address Environmental Justice in Minority Populations and Low Income Populations; E.O. 13166 Improving Access to Services for Persons with Limited English Proficiency (LEP).

(Catalog of Federal Domestic Assistance Program Number 20.205, Highway Planning and Construction. The regulations implementing Executive Order 12372 regarding intergovernmental consultation on Federal programs and activities apply to this program.)

Authority: 23 U.S.C. 139(l)(1).

Dated: July 15, 2014.
Gregory S. Punske,
District Engineer.

[FR Doc. 2014-17410 Filed 7-24-14; 8:45 am]

BILLING CODE 4910-22-P